DEPARTMENT OF TRANSPORTATION

Research and Special Programs Administration

International Standards on the Transport of Dangerous Goods; Public Meetings

AGENCY: Research and Special Programs Administration (RSPA), Department of Transportation.

ACTION: Notice of public meeting.

SUMMARY: This notice is to advise interested persons that RSPA will conduct a public meeting describing the results of the nineteenth session of the United Nation's Sub-Committee of Experts on the Transport of Dangerous Goods (UNSCOE) held from 2 to 6 July 2001 in Geneva, Switzerland.

DATES: August 7, 2001 9:30 AM-12:30 PM, Room 8236-8238.

ADDRESSES: The meeting will be held at DOT Headquarters, Nassif Building, Room 8236-8238, 400 Seventh Street SW., Washington, DC 20590.

FOR FURTHER INFORMATION CONTACT: Bob Richard, International Standards Coordinator, Office of Hazardous Materials Safety, Department of Transportation, Washington, DC 20590; (202) 366-0656.

SUPPLEMENTARY INFORMATION: The primary purpose of the meeting will be to describe the results of the nineteenth session of the UNSCOE. Topics to be covered during the public meeting will include (1) Global harmonization of classification criteria, (2) Criteria for Environmentally Hazardous Substances, (3) Intermodal requirements for the transport of solids in bulk containers, (4) Harmonized requirements for compressed gas cylinders, (5) Classification of individual substances, (6) Requirements for packagings used to transport hazardous materials, (7) Requirements for infectious substances, and (8) Hazard communication requirements.

The public is invited to attend without prior notification.

Documents

Copies of documents for the UNSCOE meeting may be obtained by downloading them from the United Nations Transport Division's web site at http://www.unece.org/trans/main/dgdb/dgsubc/c3doc.html. Information concerning UNSCOE meetings, including agendas, can be downloaded at http://www.unece.org/trans/main/dgdb/dgsubc/c3.html. These sites may also be accessed through RSPA's Hazardous Materials Safety Homepage at http://hazmat.dot.gov/intsandards.htm.

Issued in Washington, DC, on July 11, 2001.
Robert A. McGuire,
Associate Administrator for Hazardous Materials Safety.

[FR Doc. 01-17799 Filed 7-16-01; 8:45 am]

BILLING CODE 4910-60-M